DEPARTMENT OF ENERGY

Federal Energy Regulatory Commission

Combined Notice of Filings #1

December 14, 2007.

Take notice that the Commission received the following electric corporate filings:

Docket Numbers: EC08-15-000.

Applicants: Calpine Corporation, Harbinger Capital Partners Master Fund I, Harbinger Capital Partners Special Situations Fund, L.P.; SPO Partners II, L.P.; San Francisco Partners II, L.P.

Description: Calpine Corporation et al. submit amendment to their joint application submitted on 11/16/07.

Filed Date: 12/11/2007.

Accession Number: 20071212-0136.

Comment Date: 5 p.m. Eastern Time on Friday, December 21, 2007.

Take notice that the Commission received the following electric rate filings:

Docket Numbers: ER98-1643-011.

Applicants: Portland General Electric Company.

Description: Portland General Electric Co submits an amendment to its 10/31/07 filing of Notice of Change in Status pursuant to FERC's Order issued 2/10/05.

Filed Date: 12/07/2007.

Accession Number: 20071211-0106.

Comment Date: 5 p.m. Eastern Time on Friday, December 28, 2007.

Docket Numbers: ER99-1435-016.

Applicants: Avista Corporation.

Description: Avista Corp submits a clean version and a blackline version of Substitute Original Sheet 1-21 of their FERC Electric Tariff, Seventh Revised Volume 9.

Filed Date: 12/07/2007.

Accession Number: 20071211-0048.

Comment Date: 5 p.m. Eastern Time on Friday, December 28, 2007.

Docket Numbers: ER02-2330-049.

Applicants: New England Power Pool.

Description: ISO New England, Inc submits a motion to discontinue the SMD Quarterly Status Reports.

Filed Date: 12/10/2007.

Accession Number: 20071212-0035.

Comment Date: 5 p.m. Eastern Time on Monday, December 31, 2007.

Docket Numbers: ER03-1413-005.

Applicants: Sempra Energy Trading Corp.

Description: Sempra Energy Trading Corp's response to a request for additional information issued by FERC.

Filed Date: 12/07/2007.

Accession Number: 20071211-0105.

Comment Date: 5 p.m. Eastern Time on Friday, December 28, 2007.

Docket Numbers: ER04-691-089.

Applicants: Midwest Independent Transmission System Operator, Inc.

Description: Midwest ISO submits proposed revisions to FERC Electric Tariff, Third Revised Volume No. 1.

Filed Date: 12/05/2007.

Accession Number: 20071207-0097.

Comment Date: 5 p.m. Eastern Time on Wednesday, December 26, 2007.

Docket Numbers: ER06-864-008; ER00-2885-016; ER01-2765-015; ER02-2102-015; ER03-1283-010. Applicants: Bear Energy LP; Cedar Brakes I LLC; Cedar Brakes II, LLC; Utility Contract Funding LLC.; Vineland Energy LLC.

Description: Bear Energy LP et al. submits a notice of non-material change in status.

Filed Date: 12/10/2007.

Accession Number: 20071212-0058.

Comment Date: 5 p.m. Eastern Time on Monday, December 31, 2007.

Docket Numbers: ER07-1388-001.

Applicants: Midwest Independent Transmission System.

Description: Midwest ISO submits the proposed revisions in compliance with FERC's 11/9/07 Order.

Filed Date: 12/10/2007.

Accession Number: 20071212-0034.

Comment Date: 5 p.m. Eastern Time on Monday, December 31, 2007.

Docket Numbers: ER07-1417-001.

Applicants: Midwest Independent Transmission System.

Description: Midwest ISO et al. submits proposed revisions to the Congestion Management Process of their Joint Operating Agreement.

Filed Date: 12/07/2007.

Accession Number: 20071210-0035.

Comment Date: 5 p.m. Eastern Time on Friday, December 28, 2007.

Docket Numbers: ER07-720-003.

Applicants: New York Independent System Operator, Inc.

Description: New York ISO submits a supplemental compliance filing in response to FERC's 6/5/07 Letter Order.

Filed Date: 12/07/2007.

Accession Number: 20071211-0047.

Comment Date: 5 p.m. Eastern Time on Friday, December 28, 2007.

Docket Numbers: ER08-320-000.

Applicants: Midwest Independent Transmission System Operator, Inc.

Description: The Midwest ISO submits an unexecuted Facilities Construction Agreement with Summit Wind, LLC.

Filed Date: 12/10/2007.

Accession Number: 20071212-0033.

Comment Date: 5 p.m. Eastern Time on Monday, December 31, 2007.

Docket Numbers: ER08-321-000.

Applicants: New York Independent System Operator, Inc.

Description: New York ISO Attachment III to the Report of Tariff Implementation Issues and request for Limited Tariff Waivers.

Filed Date: 12/10/2007.

Accession Number: 20071212-0039.

Comment Date: 5 p.m. Eastern Time on Monday, December 31, 2007.

Docket Numbers: ER08-322-000.

Applicants: Westar Energy, Inc.

Description: Westar Energy, Inc submits a Notice of Cancellation of an Electric Power Supply Agreement with the City of Vermillion, Kansas.

Filed Date: 12/11/2007.

Accession Number: 20071212-0032.

Comment Date: 5 p.m. Eastern Time on Wednesday, January 2, 2008.

Docket Numbers: ER08-323-000.

Applicants: Synergy Power Marketing Inc.

Description: Synergy Power Marketing Inc submits FERC Electric Tariff, Original Volume No. 1.

Filed Date: 12/11/2007.

Accession Number: 20071212-0031.

Comment Date: 5 p.m. Eastern Time on Wednesday, January 2, 2008.

Docket Numbers: ER08-324-000.

Applicants: PPL Electric Utilities Corporation.

Description: PPL Electric Utilities Corp on behalf of Metropolitan Edison Co submits a revised Interconnection Agreement with Metropolitan Edison Co.

Filed Date: 12/11/2007.

Accession Number: 20071213-0007.

Comment Date: 5 p.m. Eastern Time on Wednesday, January 2, 2008.

Docket Numbers: ER08-325-000.

Applicants: Patriot Partnership, LLC.

Description: Patriot Partnership, LLC submits their FERC Electric Rate Schedule.

Filed Date: 12/12/2007.

Accession Number: 20071213-0005.

Comment Date: 5 p.m. Eastern Time on Wednesday, January 2, 2008.

Take notice that the Commission received the following electric securities filings:

Docket Numbers: ES08-9-000.

Applicants: Bicent (California) Malburg LLC.

Description: Bicent (California) Malburg LLC submits an application for approval under section 204 of the Federal Power Act and request for expedited consideration.

Filed Date: 12/07/2007.

Accession Number: 20071211-0054.

Comment Date: 5 p.m. Eastern Time on Friday, December 28, 2007.

Docket Numbers: ES08-12-000.

Applicants: Consolidated Edison Co. of New York, Inc.

Description: Request of Consolidated Edison Company of New York, Inc. for Authorization to Acquire Short-Term Debt.

Filed Date: 12/12/2007.

Accession Number: 20071212-5094.

Comment Date: 5 p.m. Eastern Time on Wednesday, January 2, 2008.

Docket Numbers: ES08-13-000.

Applicants: Orange and Rockland Utilities, Inc.

Description: Request of Orange and Rockland Utilities, Inc. for Authorization to Issue Short-Term Debt.

Filed Date: 12/12/2007.

Accession Number: 20071212-5097.

Comment Date: 5 p.m. Eastern Time on Wednesday, January 2, 2008.

Take notice that the Commission received the following open access transmission tariff filings:

Docket Numbers: OA08-14-001.

Applicants: Midwest Independent Transmission System Operator, Inc.

Description: Midwest ISO submits proposed revisions to its Open Access Transmission and Energy Markets Tariff related to the concurrently-filed transmission planning principles etc.

Filed Date: 12/07/2007.

Accession Number: 20071213-0039.

Comment Date: 5 p.m. Eastern Time on Friday, December 28, 2007.

Docket Numbers: OA08-42-000.

Applicants: Midwest Independent Transmission System Operator, Inc.

Description: Midwest ISO et al. submits proposed revisions to Attachment FF-ATCLLC of their Open Access Transmission and Energy Markets Tariff.

Filed Date: 12/07/2007.

Accession Number: 20071211-0052.

Comment Date: 5 p.m. Eastern Time on Friday, December 28, 2007.

Docket Numbers: OA08-46-001.

Applicants: South Carolina Electric & Gas Company.

Description: Revised Attachment K to Order No. 890 OATT of South Carolina Electric & Gas Company.

Filed Date: 12/12/2007.

Accession Number: 20071212-5106.

Comment Date: 5 p.m. Eastern Time on Wednesday, January 2, 2008.

Docket Numbers: OA08-49-000.

Applicants: NewCorp Resources Electric Cooperative, Inc.

Description: NewCorp Resources Electric Cooperative, Inc. submits a request for waiver of the requirement to develop and include as Attachment K to its OATT revised provisions etc.

Filed Date: 12/07/2007.

Accession Number: 20071211-0051.

Comment Date: 5 p.m. Eastern Time on Friday, December 28, 2007.

Docket Numbers: OA08-50-000; OA08-51-000.

Applicants: Duke Energy Carolinas, LLC; Progress Energy Carolinas, Inc.

Description: Duke Energy Carolinas, LLC et al. submit a joint compliance filing re Attachment K.

Filed Date: 12/07/2007.

Accession Number: 20071211-0053.

Comment Date: 5 p.m. Eastern Time on Friday, December 28, 2007.

Docket Numbers: OA08-52-000.

Applicants: New York Independent System Operator, Inc.

Description: NYISO submits revision to Attach. Y of its OATT in compliance with Order No. 890.

Filed Date: 12/07/2007.

Accession Number: 20071207-5111.

Comment Date: 5 p.m. Eastern Time on Friday, December 28, 2007.

Docket Numbers: OA08-53-000.

Applicants: Midwest Independent Transmission System.

Description: Midwest ISO submits proposed revisions to the Open Access Transmission and Energy Markets Tariff to comply with the transmission planning principles etc.

Filed Date: 12/07/2007.

Accession Number: 20071213-0038.

Comment Date: 5 p.m. Eastern Time on Friday, December 28, 2007.

Docket Numbers: OA08-58-000.

Applicants: ISO New England, Inc.

Description: ISO New England, Inc. et al. submits the proposed revisions to Section II of the ISO Tariff in compliance with Order 890.

Filed Date: 12/07/2007.

Accession Number: 20071210-0040.

Comment Date: 5 p.m. Eastern Time on Friday, December 28, 2007.

Docket Numbers: OA07-88-001.

Applicants: Florida Power Corporation, Carolina Power & Light Company.

Description: Carolina Power & Light Co and Florida Power Corp submit an errata to correct its 9/11/07 filing in compliance with Order 890.

Filed Date: 12/10/2007.

Accession Number: 20071212-0036.

Comment Date: 5 p.m. Eastern Time on Monday, December 31, 2007.

Take notice that the Commission received the following public utility holding company filings:

Docket Numbers: PH08-10-000.

Applicants: LGB Cap Rock LLC.

Description: FERC Form 65 A—Exemption Notification and Notice of Material Change in Facts of LGB Cap Rock.

Filed Date: 12/10/2007.

Accession Number: 20071210-5105.

Comment Date: 5 p.m. Eastern Time on Monday, December 31, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Director.

[FR Doc. E7-24887 Filed 12-21-07; 8:45 am]

BILLING CODE 6717-01-P